DEPARTMENT OF HOMELAND SECURITY

U.S. Customs and Border Protection

Accreditation of Sea, LTD., as a Commercial Laboratory

AGENCY: U.S. Customs and Border Protection, Department of Homeland Security.

ACTION: Notice of accreditation of SEA, Ltd. as a commercial laboratory.

SUMMARY: Notice is hereby given, pursuant to CBP regulations, that SEA, Ltd. has been accredited to test certain wax and candle products under Chapter 34 of the Harmonized Tariff Schedule of the United States (HTSUS) for customs purposes for the next three years as of September 15, 2016.

DATES: Effective Dates: The accreditation of SEA, Ltd., as a commercial laboratory became effective on September 15, 2016. The next triennial inspection date will be scheduled for September 2019.

FOR FURTHER INFORMATION CONTACT: Approved Gauger and Accredited Laboratories Manager, Laboratories and Scientific Services Directorate, U.S. Customs and Border Protection, 1300 Pennsylvania Avenue NW., Suite 1500N, Washington, DC 20229, tel. 202-344-1060.

SUPPLEMENTARY INFORMATION: Notice is hereby given pursuant to 19 CFR 151.12, that SEA, Ltd., 7001 Buffalo Parkway, Columbus, OH 43229, has been accredited to test certain wax and candle products under Chapter 34 of the Harmonized Tariff Schedule of the United States (HTSUS) for customs purposes, in accordance with the provisions of 19 CFR 151.12. SEA, Ltd. is accredited for the following laboratory analysis procedures and methods for certain wax and candle products set forth by the U.S. Customs and Border Protection Laboratory Methods (CBPL):

CBPL No. | Title
34-07 | Quantitation of Paraffin in Beeswax and Other Waxes by High Temperature Capillary Gas Chromatography.
34-14 | Qualitative and Quantitative Analysis of Petroleum Wax in Candles by Capillary Gas Chromatography.
34-15 | Qualitative Analysis of Wax and Gel Candles by Infrared Spectroscopy.
34-16 | Quantitative Analysis of Petroleum Wax in Candles by Solid Phase Extraction Chromatography.

Anyone wishing to employ this entity to conduct laboratory analyses should request and receive written assurances from the entity that it is accredited by the U.S. Customs and Border Protection to conduct the specific test requested. Alternatively, inquiries regarding the specific test this entity is accredited to perform may be directed to the U.S. Customs and Border Protection by calling (202) 344-1060. The inquiry may also be sent to CBPGaugersLabs@cbp.dhs.gov. Please reference the Web site listed below for a complete listing of CBP approved gaugers and accredited laboratories.

http://www.cbp.gov/about/labs-scientific/commercial-gaugers-and-laboratories.

Dated: December 5, 2016.
Ira S. Reese,
Executive Director, Laboratories and Scientific Services Directorate.

[FR Doc. 2016-30119 Filed 12-14-16; 8:45 am]

BILLING CODE 9111-14-P